ENVIRONMENTAL PROTECTION AGENCY

[FRL-7205-1]

Transfer of Confidential Business Information to Contractors

AGENCY: Environmental Protection Agency (EPA).

ACTION: Notice of transfer of data and request for comments.

SUMMARY: EPA will transfer Confidential Business Information (CBI) to its contractor, Industrial Economics, Inc., and its subcontractors: Allison Geoscience; APPL; Cambridge Planning; DPRA, Inc.; EERGC; Forum One; Ross & Associates; Science Applications International Corporation (SAIC); Science International; Tetra Tech, Inc. and Versar, Inc. that has been or will be submitted to EPA under section 3007 of the Resource Conservation and Recovery Act (RCRA). Under RCRA, EPA is involved in activities to support, expand and implement solid and hazardous waste regulations.

DATES: Access to confidential data submitted to EPA will occur no sooner than May 13, 2002.

ADDRESSES: Comments should be sent to Regina Magbie, Document Control Officer, Office of Solid Waste (5305W), U.S. Environmental Protection Agency, 1200 Pennsylvania Avenue, NW., Washington, DC 20460. Comments should be identified as “Access to Confidential Data.”

FOR FURTHER INFORMATION CONTACT: Regina Magbie, Document Control Officer, Office of Solid Waste (5305W), U.S. Environmental Protection Agency, 1200 Pennsylvania Avenue, NW., Washington, DC 20460, 703-308-7909.

SUPPLEMENTARY INFORMATION:

1. Transfer of Confidential Business Information

Under EPA Contract 68-W-02-007 Industrial Economics, Inc., and its subcontractors, will assist the Office of Solid Waste, Economics, Methods, and Risk Analysis Division, by providing technical and regulatory support for Data Collection and Management; Risk Assessment; Program Evaluation Support and Analysis Support Services. EPA has determined that Industrial Economics, Inc., and its subcontractors, will need access to RCRA CBI submitted to the Office of Solid Waste to complete this work. Specifically, Industrial Economics, Inc., and its subcontractors, need access to the CBI that EPA collects, under the authority of section 3007 of RCRA.

In accordance with 40 CFR 2.305(h), EPA has determined that Industrial Economics, Inc., and its subcontractors, require access to CBI submitted to EPA under the authority of RCRA to perform work satisfactorily under the above-noted contract. EPA is submitting this notice to inform all submitters of CBI of EPA's intent to transfer CBI to these firms on a need-to-know basis. Upon completing its review of materials submitted, Industrial Economics, Inc., and its subcontractors, will return all CBI to EPA.

EPA will authorize Industrial Economics, Inc., and its subcontractors, for access to CBI under the conditions and terms in EPA's “Contractor Requirements for the Control and Security of RCRA Confidential Business Information Security Manual.” Prior to transferring CBI to Industrial Economics, Inc., and its subcontractors, EPA will review and approve its security plans and Industrial Economics, Inc., and its subcontractors, will sign non-disclosure agreements.

Dated: April 10, 2002.
Elizabeth Cotsworth,
Director, Office of Solid Waste.

[FR Doc. 02-10876 Filed 5-1-02; 8:45 am]

BILLING CODE 6560-50-P